DEPARTMENT OF HOMELAND SECURITY

Coast Guard

[CGD08-05-050]

Implementation of Sector New Orleans

AGENCY: Coast Guard, DHS.

ACTION: Notice of organizational change.

SUMMARY: The Coast Guard announces the stand-up of Sector New Orleans. The creation of Sector New Orleans is an internal reorganization to combine Group New Orleans, Marine Safety Office New Orleans, and Marine Safety Office Morgan City into one command. The Coast Guard has established a continuity of operations whereby all previous practices and procedures will remain in effect until superseded by an authorized Coast Guard official and/or document.

DATES: This change is effective August 19, 2005.

ADDRESSES: Documents indicated in this preamble as being available in the docket are part of docket CGD08-05-050 and are available for inspection or copying at Commander (rpl), Eighth Coast Guard District, 500 Poydras Street, New Orleans, Louisiana 70130-3310 between 7:30 a.m. and 4:30 p.m., Monday through Friday, except Federal holidays.

FOR FURTHER INFORMATION CONTACT: Lieutenant Michael Roschel, Eighth District Planning Office at 504-589-6293.

SUPPLEMENTARY INFORMATION:

Discussion of Notice

Sector New Orleans is located at 201 Old Hammond Highway, Metairie, LA 70005 and contains a single Command Center. Sector New Orleans is composed of a Response Department, Prevention Department, and Logistics Department. All existing missions and functions performed by Group New Orleans, Marine Safety Office New Orleans and Marine Safety Office Morgan City (and subordinate units) will be performed by Sector New Orleans. Effective August 19, 2005, Group New Orleans, Marine Safety Office New Orleans and Marine Safety Office Morgan City no longer exist as organizational entities. However, Marine Safety Office Morgan City is renamed Marine Safety Unit Morgan City and reports directly to the Sector New Orleans Commander. Marine Safety Unit Houma will remain a subunit of Marine Safety Unit Morgan City and will report directly to Marine Safety Unit Morgan City. Marine Safety Unit Baton Rouge will report to Sector New Orleans Deputy Sector Commander. Sector New Orleans consists of two sub-zones. The Commander, Sector New Orleans will have overall responsibility for all Coast Guard missions in these zones. The sub-zones are the New Orleans Sub-Zone and MSU Morgan City Sub-Zone.

New Orleans Sub-Zone starts at 28°50′ North latitude, 088°00′ West longitude; thence north along longitude 088°00′ West to latitude 29°10′ North; thence northwesterly to the Mississippi coast at 89°10′ West longitude; thence north to the northern Harrison County Boundary; then westerly along the north Harrison County boundary; thence northerly along the western boundaries of Stone, Forrest, Jones, Jasper, Newton, Neshoba, Winston, Choctaw, and Webster counties to the northern boundary of Montgomery County; then southwesterly along the northern and western boundaries of Montgomery, Carroll, Holmes, Humphreys, Sharkey, and Issaquena Counties to the Louisiana-Arkansas boundary; thence west along the Louisiana-Arkansas boundary to the Texas-Louisiana boundary; thence south along the Texas-Louisiana boundary to the northern DeSoto Parish boundary; thence easterly along the northern and eastern boundaries of DeSoto, Sabine, Vernon and Allen Parishes; thence east along the northern boundaries of Acadia, Lafayette, St. Martin, Iberia, Assumption and Lafourche Parishes to 29°18′ North latitude, 090°00′ West longitude; thence southeast to 28°50′ North latitude, 089°27′06″ West longitude; thence east to 88°00′ West longitude.

MSU Morgan City Sub-zone starts at latitude 28°50′ North and longitude 088°00′ West; thence proceeds west to 28°50′ North latitude, 089°27′06″ West longitude; thence northwesterly to 29°18′ North latitude, 090°00′ West longitude; thence northwesterly along the northern boundaries of Lafourche, Assumption, Iberia, and St. Martin Parishes; thence northwesterly along the northern boundary of Lafayette and Acadia Parishes to 092°23′ West longitude; thence south along 092°23′ West longitude to the outermost extent of the EEZ; thence easterly along the outermost extent of the EEZ to 088°00′ West longitude; thence north to 28°50′ North latitude, 088°00′ West longitude.

These sub-zones will be modified in the future upon the stand-up of adjoining sectors. Notice of this change will be published in the Federal Register.

The Sector New Orleans Commander is vested with all the rights, responsibilities, duties, and authority of a Group Commander and Commanding Officer Marine Safety Office, as provided for in Coast Guard regulations, with the exception of specific authorities that shall be retained by MSU Morgan City. The Sector New Orleans Commander is the successor in command to the Commanding Officers of Group New Orleans, Marine Safety Office New Orleans and Marine Safety Office Morgan City. The Sector New Orleans Commander is designated for the entire Sector as: (a) Federal On Scene Coordinator (FOSC), consistent with the National Contingency Plan; and (b) Search and Rescue Mission Coordinator (SMC). Also, the Sector New Orleans Commander is designated for the entire Sector except for the MSU Morgan City Sub-Zone as: (a) Captain of the Port (COTP); (b) Federal Maritime Security Coordinator (FMSC); (c) Federal On Scene Coordinator (FOSC) consistent with the National Contingency Plan; and (d) Officer in Charge of Marine Inspection (OCMI). The Deputy Sector Commander is designated alternate COTP, FMSC, FOSC, SMC and Acting OCMI.

The Commanding Officer, Marine Safety Unit Morgan City is designated for the entire MSU Morgan City Sub-Zone as: (a) Captain of the Port (COTP); (b) Federal Maritime Security Coordinator (FMSC); (c) Federal On Scene Coordinator (FOSC) consistent with the National Contingency Plan; and (d) Officer in Charge of Marine Inspection (OCMI). The Executive Officer, Marine Safety Unit Morgan City is designated alternate COTP, FMSC, FOSC, and Acting OCMI for the sub-zone.

A continuity of operations order has been issued ensuring that all previous Group New Orleans, Marine Safety Office New Orleans and Marine Safety Office Morgan City practices and procedures will remain in effect until superseded by Commander, Sector New Orleans or, in MSU Morgan City Sub-Zone, until superseded by Commanding Officer, Marine Safety Unit Morgan City. This continuity of operations order addresses existing COTP regulations, orders, directives and policies.

The following information is a list of updated command titles, addresses and points of contact to facilitate requests from the public and assist with entry into security or safety zones:

Name: Sector New Orleans.

Address: Commander, U.S. Coast Guard Sector New Orleans, 201 Old Hammond Highway, Metairie, LA 70005.

Contact: General Number, (504) 846-6184, Sector.

Commander: Captain Frank Paskewich; Deputy Sector.

Commander: Captain Robert Mueller.

Chief, Prevention Department: Commander Joseph Paradis (504) 589-6196 extension 232; Chief, Response Department: Commander Gregory Stump (504) 846-6184; Chief, Logistics Department: Commander Kim Croke (504) 589-6196 extension 365.

MSU Morgan City General Number, (985) 380-5305.

Dated: August 16, 2005.
Kevin L. Marshall,
Captain, U.S. Coast Guard, Acting Commander Eighth Coast Guard District.

[FR Doc. 05-17207 Filed 8-29-05; 8:45 am]

BILLING CODE 4910-15-P